DEPARTMENT OF HEALTH AND HUMAN SERVICES

Office of the Secretary

Delayed Update of the HHS Poverty Guidelines for the Remainder of 2010

AGENCY: Department of Health and Human Services.

ACTION: Notice.

SUMMARY: This notice provides a delayed update of the Department of Health and Human Services (HHS) poverty guidelines for the remainder of 2010, and until the 2011 poverty guidelines are published, which is expected to occur in late January 2011. HHS is issuing this delayed update due to recent legislation that prohibited the Secretary of HHS from publishing 2010 poverty guidelines before May 31, 2010, and required that the 2009 poverty guidelines remain in effect until the Secretary of HHS published updated guidelines.

DATES: Effective Date: Date of publication, unless an office administering a program using the guidelines specifies a different effective date for that particular program.

ADDRESSES: Office of the Assistant Secretary for Planning and Evaluation, Room 404E, Humphrey Building, Department of Health and Human Services, Washington, DC 20201.

FOR FURTHER INFORMATION CONTACT: For information about how the guidelines are used or how income is defined in a particular program, contact the Federal, State, or local office that is responsible for that program. For information about poverty figures for immigration forms, the Hill-Burton Uncompensated Services Program, and the number of people in poverty, use the specific telephone numbers and addresses given below.

For general questions about the poverty guidelines themselves, contact Gordon Fisher, Office of the Assistant Secretary for Planning and Evaluation, Room 404E, Humphrey Building, Department of Health and Human Services, Washington, DC 20201—telephone: (202) 690-7507—or visit http://aspe.hhs.gov/poverty/.

For information about the percentage multiple of the poverty guidelines to be used on immigration forms such as USCIS Form I-864, Affidavit of Support, contact U.S. Citizenship and Immigration Services at 1-800-375-5283.

For information about the Hill-Burton Uncompensated Services Program (free or reduced-fee health care services at certain hospitals and other facilities for persons meeting eligibility criteria involving the poverty guidelines), contact the Office of the Director, Division of Facilities Compliance and Recovery, Health Resources and Services Administration, HHS, Room 10-105, Parklawn Building, 5600 Fishers Lane, Rockville, Maryland 20857. To speak to a staff member, please call (301) 443-5656. To receive a Hill-Burton information package, call 1-800-638-0742 (for callers outside Maryland) or 1-800-492-0359 (for callers in Maryland). You also may visit http://www.hrsa.gov/hillburton/default.htm.

For information about the number of people in poverty, visit the Poverty section of the Census Bureau's Web site at http://www.census.gov/hhes/www/poverty/poverty.html or contact the Census Bureau's Demographic Call Center Staff at (301) 763-2422 or 1-866-758-1060 (toll-free).

SUPPLEMENTARY INFORMATION:

Background

Section 673(2) of the Omnibus Budget Reconciliation Act (OBRA) of 1981 (42 U.S.C. 9902(2)) requires the Secretary of HHS to update the poverty guidelines at least annually, adjusting them on the basis of the Consumer Price Index for All Urban Consumers (CPI-U). The poverty guidelines are used as an eligibility criterion by the Community Services Block Grant program and a number of other Federal programs. The poverty guidelines issued here are a simplified version of the poverty thresholds that the Census Bureau uses to prepare its estimates of the number of individuals and families in poverty.

However, provisions in three recent laws prohibited the Secretary of HHS from publishing updated poverty guidelines for 2010 before May 31, 2010, and required that the poverty guidelines published on January 23, 2009, remain in effect until updated poverty guidelines were published. These provisions were section 1012 of the Department of Defense Appropriations Act, 2010 (Pub. L. 111-118), section 7 of the Temporary Extension Act of 2010 (Pub. L. 111-144), and section 6 of the Continuing Extension Act of 2010 (Pub. L. 111-157).

The provisions included in these laws were in response to a decrease in the annual average CPI-U for 2009. In the absence of a legislative change, this decrease would have required HHS to issue 2010 poverty guidelines that were lower than the 2009 poverty guidelines, resulting in an adverse effect on potential and actual program beneficiaries. An explanatory statement in the December 16, 2009 Congressional Record described the first legislative provision to delay the publication of the 2010 guidelines as a “freeze” of the guidelines at 2009 levels “in order to prevent a reduction in eligibility for certain means-tested programs, including Medicaid, Supplemental Nutrition Assistance Program (SNAP), and child nutrition * * *.” (Congressional Record (House), December 16, 2009, p. H15370).

Legislation to further delay the publication of the 2010 poverty guidelines beyond May 31, 2010, did not pass Congress. Accordingly, HHS is publishing poverty guidelines for the remainder of 2010 in this notice. These 2010 guidelines will remain in effect until HHS publishes the 2011 poverty guidelines, which is expected to occur in late January 2011.

If HHS had published the 2010 poverty guidelines in late January 2010, on the normal schedule, the update would have been based on the 2008 Census Bureau poverty thresholds and the percentage change in the annual average CPI-U from calendar year 2008 to calendar year 2009 (the period from January through December 2009). Since the publication of the 2010 poverty guidelines was delayed through May 31, 2010, HHS is basing this update on the 2008 Census Bureau poverty thresholds—which remain the most recent published thresholds available—and the percentage change in the average CPI-U from calendar year 2008 to the period beginning with January 2009 and ending on May 31, 2010. The average CPI-U for the January 2009-May 2010 period was 0.042 percent higher than the annual average CPI-U for calendar year 2008. (The Omnibus Budget Reconciliation Act of 1981 requires that the starting point for the update of the poverty guidelines shall be the latest published Census Bureau poverty thresholds, rather than the previous HHS poverty guidelines.) The percentage increase in the CPI-U was so small that after the rounding procedures used in the guidelines calculation, the guidelines for the remainder of 2010 showed no change from the 2009 guidelines.

The poverty guidelines are calculated each year using the latest published Census Bureau poverty thresholds as the starting point. They are not calculated from the previous year's poverty guidelines. As a result, the level of next year's poverty guidelines—the 2011 guidelines—will not be affected by the way in which these 2010 poverty guidelines were calculated.

The poverty guidelines for the remainder of 2010 are provided below. The guideline figures shown represent annual income. These guidelines will remain in effect until HHS publishes the 2011 poverty guidelines, which is expected in late January 2011.

2010 Poverty Guidelines for the 48 Contiguous States and the District of Columbia
Persons in family | Poverty guideline
1 | $10,830
2 | 14,570
3 | 18,310
4 | 22,050
5 | 25,790
6 | 29,530
7 | 33,270
8 | 37,010

For families with more than 8 persons, add $3,740 for each additional person.

2010 Poverty Guidelines for Alaska
Persons in family | Poverty guideline
1 | $13,530
2 | 18,210
3 | 22,890
4 | 27,570
5 | 32,250
6 | 36,930
7 | 41,610
8 | 46,290

For families with more than 8 persons, add $4,680 for each additional person.

2010 Poverty Guidelines for Hawaii
Persons in family | Poverty guideline
1 | $12,460
2 | 16,760
3 | 21,060
4 | 25,360
5 | 29,660
6 | 33,960
7 | 38,260
8 | 42,560

For families with more than 8 persons, add $4,300 for each additional person.

Dated: July 30, 2010.
Kathleen Sebelius,
Secretary of Health and Human Services.

[FR Doc. 2010-19129 Filed 7-30-10; 4:15 pm]

BILLING CODE 4151-05-P